DEPARTMENT OF AGRICULTURE

Agricultural Marketing Service

[Document Number AMS-FV-09-0028, FV-11-327]

United States Standards for Grades of Frozen Vegetables

AGENCY: Agricultural Marketing Service, USDA.

ACTION: Notice and request for comments.

SUMMARY: The Agricultural Marketing Service (AMS) of the Department of Agriculture (USDA) proposes to revise eight United States Standards for Grades of Frozen Vegetables. AMS is proposing to replace the dual grade nomenclature with single letter grade designations. “U.S. Grade A” (or “U.S. Fancy”), “U.S. Grade B” (or “U.S. Extra Standard”), and “U.S. Grade C” (or “U.S. Standard”) would become “U.S. Grade A,” “U.S. Grade B,” and “U.S. Grade C,” respectively. This would conform to recent changes in other grade standards. AMS is also proposing to provide updated contact information in order to obtain copies of the grade standards and color standards. These changes would bring these grade standards in line with the present quality levels being marketed today and would provide guidance in the effective utilization of these products. The grade standards covered by these proposed revisions are: frozen asparagus, frozen lima beans, frozen speckled butter beans, frozen cooked squash, frozen summer squash, frozen sweet potatoes, frozen turnip greens with turnips, and frozen mixed vegetables.

DATES: Comments must be submitted on or before March 18, 2013.

ADDRESSES: Written comments may be submitted via the Internet: http://www.regulations.gov; by email brian.griffin@ams.usda.gov; or by mail to Brian E. Griffin, Standardization Branch, Specialty Crops Inspection Division, Fruit and Vegetable Program, Agricultural Marketing Service, U.S. Department of Agriculture, 1400 Independence Avenue SW., Room 0709, South Building; STOP 0247, Washington, DC 20250; fax: (202) 690-1527. Copies of the proposed revised United States Standards for Grades are available at the addresses cited above and at the AMS Web site at: http://www.ams.usda.gov/processedinspection. All comments should reference the document number, date, and page number of this issue of the Federal Register. All comments will be posted without change, including any personal information provided. All comments submitted in response to this notice will be included in the public record and will be made available to the public on the Internet via http://www.regulations.gov. Comments will be made available for public inspection at the above address during regular business hours or can be viewed at: http://www.regulations.gov.

FOR FURTHER INFORMATION CONTACT: Contact Brian E. Griffin, at the address above, or phone (202) 720-5021; or fax (202) 690-1527.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. Those United States Standards for Grades of Fruits and Vegetables no longer appear in the Code of Federal Regulations but are maintained by USDA, AMS, Fruit and Vegetable Program at the following Web site: http://www.ams.usda.gov/processedinspection. AMS is proposing revisions to these U.S. Standards for Grades using the procedures that appear in part 36 of Title 7 of the Code of Federal Regulations.

Background: AMS periodically reviews the processed fruit and vegetable grade standards for usefulness in serving the industry. AMS has identified eighteen grade standards covering various frozen vegetables for possible revision. More recently developed grade standards use a single term, such as “U.S. Grade A” or “U.S. Grade B” to describe each level of quality within a grade standard. Older standards used a dual system, such as “U.S. Grade A” and “U.S. Fancy” to describe the same level of quality within a grade standard. Prior to undertaking detailed work developing the proposed revisions to these grade standards, AMS published a notice in the Federal Register on July 23, 2010 [7 FR 43141] soliciting comments on the possible changes and any other comments regarding these grade standards to better serve the industry. A 60 day period was provided for interested persons to submit comments. In response to its request, AMS received one comment which was submitted by the American Frozen Food Institute (AFFI). AFFI is the national trade association representing the interests of U.S. frozen food processors and their suppliers. AFFI's more than 500 member companies are responsible for approximately 90 percent of the frozen food processed annually in the United States. AFFI's comment was in support of the proposed revisions to the U.S. grade standards because its membership believes “moving to a one-term system of grading (e.g., referring to “Grade A” solely, instead of allowing the use of “Grade A” and/or “Extra Fancy” to describe the same degree of quality) will help to improve consistency between new and old standards and minimize any confusion that might arise in the marketplace in interpreting or understanding the grading terminology used on packaging.”

This notice proposes to revise eight of the eighteen grade standards identified in the notice published July 23, 2010 [7 FR 43141]. The changes to each of the grade standards are as follows:

United States Standards for Grades of Frozen Asparagus

Update address for AMS. Change “U.S. Grade A or U.S. Fancy” to “U.S. Grade A.” Change “U.S. Grade B or U.S. Extra Standard” to “U.S. Grade B.”

United States Standards for Grades of Frozen Cooked Squash

Update address for AMS. Change “U.S. Grade A or U.S. Fancy” to “U.S. Grade A.” Change “U.S. Grade B or U.S. Extra Standard” to “U.S. Grade B.” Correct typographical error to read: “U.S. Grade B is the quality of frozen cooked squash * * * that possesses reasonably good flavor and odor.” This would ensure that these requirements are consistent throughout the document.

United States Standards for Grades of Frozen Lima Beans

Update address for AMS. Change “U.S. Grade A or U.S. Fancy” to “U.S. Grade A.” Change “U.S. Grade B or U.S. Extra Standard” to “U.S. Grade B.” Change “U.S. Grade C or U.S. Standard” to “U.S. Grade C.” Update contact information to obtain color standards for frozen lima beans.

United States Standards for Grades of Frozen Mixed Vegetables

Update address for AMS. Change “U.S. Grade A or U.S. Fancy” to “U.S. Grade A.” Change “U.S. Grade B or U.S. Extra Standard” to “U.S. Grade B.” Change “U.S. Grade C or U.S. Standard” to “U.S. Grade C.” Update references to color standard and definitions to eliminate conflict with current U.S. Standards for Grades of Frozen Lima Beans (remove reference to Maerz and Paul's Dictionary of Color and replace with current USDA Color Standards for Frozen Lima Beans). Update definition for color to “Green means that not less than 50 percent of the surface area of the individual lima bean possesses as much or more green color than U.S.D.A. lima bean green color standard for frozen lima beans.” Update definition to “White means that more than 50 percent of the surface area of the individual lima bean is lighter in color than U.S.D.A. lima bean white color standard for frozen lima beans.” Add “Information regarding these color standards may be obtained by contacting the Specialty Crops Inspection Division.” These changes would eliminate the inconsistency in evaluating color of frozen lima beans when they are a component in frozen mixed vegetables.

United States Standards for Grades of Frozen Speckled Butter (Lima) Beans

Update address for AMS. Change “U.S. Grade A or U.S. Fancy” to “U.S. Grade A.” Change “U.S. Grade B or U.S. Extra Standard” to “U.S. Grade B.”

United States Standards for Grades of Frozen Squash (Summer Type)

Update address for AMS. Change “U.S. Grade A or U.S. Fancy” to “U.S. Grade A.” Change “U.S. Grade B or U.S. Extra Standard” to “U.S. Grade B.”

United States Standards for Grades of Frozen Sweet Potatoes

Update address for AMS. Change “U.S. Grade A or U.S. Fancy” to “U.S. Grade A.” Change “U.S. Grade B or U.S. Extra Standard” to “U.S. Grade B.”

United States Standards for Grades of Frozen Turnip Greens With Turnips

Update address for AMS. Change “U.S. Grade A or U.S. Fancy” to “U.S. Grade A.” Change “U.S. Grade B or U.S. Extra Standard” to “U.S. Grade B.” Change references for “flavor” to “flavor and odor” to ensure that these requirements are consistent throughout the document.

The remaining grade standards identified in the Federal Register notice published July 23, 2010 [7 FR 43141), frozen carrots, frozen whole kernel corn, frozen corn on the cob, frozen breaded onion rings, frozen peas, frozen peas and carrots, frozen French fried potatoes, frozen sweet peppers, frozen succotash, and frozen tomato juice and tomato juice from concentrate will be revised at a later date. The Department has determined that these grade standards require additional revisions to take into account, i.e., U.S. Food and Drug Administration's Standards of Identity, new styles and pack types, and new commercial cultivated varieties (such as supersweet corn) which possess unique characteristics. AMS will seek additional guidance from the industry to update these grade standards so that they reflect current marketing practices and serve the needs of the industry.

The proposed revisions to these frozen vegetable grade standards would provide a common language for trade and better reflect the current marketing of frozen vegetables.

Authority: 7 U.S.C. 1621-1627.

Dated: January 9, 2013.
Rex A. Barnes,
Acting Administrator, Agricultural Marketing Service.

[FR Doc. 2013-00600 Filed 1-14-13; 8:45 am]

BILLING CODE 3410-02-P